DEPARTMENT OF TRANSPORTATION

Federal Aviation Administration

14 CFR Part 71

[Docket No. FAA-2022-1161; Airspace Docket No. 22-ASO-18]

RIN 2120-AA66

Proposed Amendment of Class D and Class E Airspace; Greenville, Spartanburg, and Greer, SC

AGENCY: Federal Aviation Administration (FAA), DOT.

ACTION: Notice of proposed rulemaking (NPRM).

SUMMARY: This action proposes to amend Class D airspace, Class E surface airspace, and Class E airspace extending upward from 700 feet above the surface in the Greenville, Spartanburg, and Greer, SC areas due to the decommissioning of the Fairmont non-directional beacon (NDB) and cancellation of associated approaches into Spartanburg Downtown Memorial Airport/Simpson Field, as well as updating the airport's name and geographic coordinates. Additionally, Greenville Spartanburg International Airport, Greenville Downtown Airport, and Donaldson Field Airport each require the name and geographic coordinate updates, as well as airspace updates. Controlled airspace is necessary for the safety and management of instrument flight rules (IFR) operations in the area.

DATES: Comments must be received on or before December 19, 2022.

ADDRESSES: Send comments on this proposal to: the U.S. Department of Transportation, Docket Operations, 1200 New Jersey Avenue SE, West Building Ground Floor, Room W12-140, Washington, DC 20590-0001; Telephone: (800) 647-5527, or (202) 366-9826. You must identify Docket No. FAA-2022-1161; Airspace Docket No. 22-ASO-18 at the beginning of your comments. You may also submit comments through the internet at https://www.regulations.gov.

FAA Order JO 7400.11G Airspace Designations and Reporting Points and subsequent amendments can be viewed online at www.faa.gov/air_traffic/publications/. For further information, you can contact the Airspace Policy Group, Federal Aviation Administration, 800 Independence Avenue SW, Washington, DC 20591; Telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend airspace in Greenville, Spartanburg, and Greer, SC, to support IFR operations in the area.

Comments Invited

Interested persons are invited to comment on this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2021-1161 and Airspace Docket No. 22-ASO-18) and be submitted in triplicate to DOT Docket Operations (see ADDRESSES section for the address and phone number). You may also submit comments through the internet at www.regulations.gov.

Persons wishing the FAA to acknowledge receipt of their comments on this action must submit with those comments a self-addressed stamped postcard on which the following statement is made: “Comments to FAA Docket No. FAA-2021-1161; Airspace Docket No. 22-ASO-18.” The postcard will be dated/time-stamped and returned to the commenter.

All communications received before the specified closing date for comments will be considered before taking action on the proposed rule. The proposal contained in this document may be changed in light of the comments received. All comments submitted will be available for examination in the public docket before and after the comment closing date. A report summarizing each substantive public contact with FAA personnel concerned with this rulemaking will be filed in the docket.

Availability of NPRMs

An electronic copy of this document may be downloaded through the internet at https://www.regulations.gov. Recently published rulemaking documents can also be accessed through the FAA's web page at www.faa.gov/air_traffic/publications/airspace_amendments/.

You may review the public docket containing the proposal, any comments received, and any final disposition in person in the Dockets Office (see the ADDRESSES section for address and phone number) between 9:00 a.m. and 5:00 p.m., Monday through Friday, except on federal holidays. An informal docket may also be examined between 8:00 a.m. and 4:30 p.m., Monday through Friday, except for federal holidays at the office of the Eastern Service Center, Federal Aviation Administration, Room 350,1701 Columbia Avenue, College Park, GA 30337.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Proposal

The FAA proposes an amendment to 14 CFR part 71 to amend Class D airspace, Class E surface airspace, and Class E airspace extending upward from 700 feet above the surface in the Greenville, Spartanburg, and Greer, SC area due to the decommissioning of the Fairmont NDB and cancellation of associated approaches into Spartanburg Downtown Memorial Airport/Simpson Field (formerly Spartanburg Downtown Memorial Airport. The Class D airspace for Greenville Spartanburg International Airport would be increased to 4.5 miles (previously 4.4 miles), and the geographic coordinates would be updated to coincide with the FAA's database. Also, the southwest extension of the Class E surface airspace for Spartanburg Downtown Memorial Airport/Simpson Field would be removed due to the cancellation of the NDB approaches. This action would also update the airport's name and geographic coordinates to coincide with the FAA's database and remove the city name from the airspace header per order FAA 7400.2. Also, this action would update the airport names of the following airports: Greenville Spartanburg International Airport (formerly Greenville-Spartanburg Airport) and Donaldson Field Airport (formerly Donaldson Center Airport), as well as updating the geographic coordinates of both airports. In addition, this action would replace the outdated terms Airport/Facility Directory with the term Chart Supplement and Notice to Airmen with the term Notice to Air Missions in the airspace descriptions.

Class E airspace designations are published in Paragraphs 5000, 6002, and 6005, respectively, of FAA Order JO 7400.11G, dated August 19, 2022, and effective September 15, 2022, which is incorporated by reference in 14 CFR 71.1. The Class D and Class E airspace designations listed in this document will be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11G, Airspace Designations and Reporting Points, dated August 19, 2022, and effective September 15, 2022, is amended as follows:

Paragraph 5000 Class D Airspace.

* * * * *

ASO SC D Greenville, SC [Amended]

Greenville Downtown Airport, SC

(Lat. 34°50′53″ N, long. 82°21′00″ W)

Greenville-Spartanburg International Airport

(Lat. 34°53′44″ N, long. 82°13′08″ W)

That airspace extending upward from the surface to and including 3,500 feet MSL within a 4.5-mile radius of Greenville Downtown Airport, excluding that airspace within the Greenville-Spartanburg International Airport, Class C airspace area. This Class D airspace area is effective during the specific days and times established in advance by a Notice to Air Missions. The effective days and times will thereafter be continuously published in the Chart Supplement.

ASO SC D Greenville Donaldson Field Airport, SC [Amended]

Greenville, Donaldson Field Airport, SC

(Lat. 34°45′30″ N, long. 82°22′35″ W)

Greenville Downtown Airport

(Lat. 34°50′53″ N, long. 82°21′00″ W)

Greenville-Spartanburg International Airport

(Lat. 34°53′44″ N, long. 82°13′08″ W)

That airspace extending upward from the surface to and including 3,500 feet MSL within a 4.2-mile radius of Donaldson Field Airport, excluding that airspace within the Greenville Downtown Airport Class D airspace area and excluding that airspace within the Greenville-Spartanburg International Airport Class C airspace area. This Class D airspace area is effective during the specific dates and times established in advance by a Notice to Airmen. The effective date and time will thereafter be continuously published in the Chart Supplement.

Paragraph 6002 Class E Surface Airspace.

* * * * *

ASO SC E2 Greer, Greenville-Spartanburg International Airport, SC [Amended]

Greenville-Spartanburg International Airport, SC

(Lat. 34°53′44″ N, long. 82°13′08″ W)

That airspace extending upwards from the surface within a 5-mile radius of the Greenville-Spartanburg International Airport. This Class E airspace area is effective during the specific dates and times established in advance by a Notice to Air Missions. The effective date and time will thereafter be continuously published in the Chart Supplement.

ASO SC E2 Spartanburg, SC [Amended]

Spartanburg Downtown Memorial Airport/Simpson Field, SC

(Lat. 34°54′59″ N, long. 81°57′21″ W)

Spartanburg VORTAC

(Lat. 35°02′01″ N, long. 81°55′37″ W)

That airspace extending upwards from the surface within a 4.3-mile radius of Spartanburg Downtown Memorial Airport/Simpson Field and within 1.8 miles each side of Spartanburg VORTAC 192° radial, extending from the 4.3-mile radius to the VORTAC, excluding the portion within the Greer Greenville-Spartanburg Airport, SC, Class C airspace area. This Class E airspace area is effective during the specific dates and times established in advance by a Notice to Air Missions. The effective date and time will thereafter be continuously published in the Chart Supplement.

Paragraph 6005 Class E Airspace Areas Extending Upward From 700 Feet or More Above the Surface of the Earth.

* * * * *

ASO SC E5 Greenville, SC [Amended]

Greenville Downtown Airport, SC

(Lat.34°50′53″ N, long. 82°21′00″ W)

Greenville-Spartanburg International Airport

(Lat. 34°53′44″ N, long. 82°13′08″ W)

Donaldson Field Airport

(Lat. 34°45′30″ N, long. 82°22′35″ W)

DYANA NDB

(Lat. 34°41′28″ N, long. 82°26′37″ W)

That airspace extending upward from 700 feet above the surface within a 9.3-mile radius of Greenville Downtown Airport, and within a 10-mile radius of Greenville-Spartanburg International Airport, and within a 6.7-mile radius of Donaldson Field Airport and within 4 miles northwest and 8 miles southeast of the 224° bearing from the DYANA NDB extending from the 6.7-mile radius to 16 miles southwest of Donaldson Field Airport.

ASO SC E5 Spartanburg, SC

Spartanburg Downtown Memorial Airport/Simpson Field, SC

(Lat. 34°54′59″ N, long. 81°57′21″ W)

Spartanburg VORTAC

(Lat. 35°02′01″ N, long. 81°55′37″ W)

That airspace extending upward from 700 feet above the surface within a 7-mile radius of Spartanburg Downtown Memorial Airport/Simpson Field and within 3.1 miles on each side of Spartanburg VORTAC 012° radial, extending from the 7-mile radius to 7 miles north of the VORTAC and within 2 miles each side of Spartanburg localizer southwest course, extending from the 7-mile radius to 15.1 miles south of the VORTAC.

Issued in College Park, Georgia, on October 28, 2022.
Andreese C. Davis,
Manager, Airspace & Procedures Team South, Eastern Service Center, Air Traffic Organization.

[FR Doc. 2022-23877 Filed 11-3-22; 8:45 am]

BILLING CODE 4910-13-P